DEPARTMENT OF TRANSPORTATION

Federal Aviation Administration

14 CFR Part 71

[Docket FAA 2005-21522; Airspace Docket No. 05-AWP-6]

Establishment of Class E Surface Area, South Lake Tahoe, CA

AGENCY: Federal Aviation Administration (FAA) DOT.

ACTION: Final Rule; correction.

SUMMARY: The Federal Aviation Administration (FAA) published in the Federal Register of July 7, 2005, a document establishing Class E Surface Area at South Lake Tahoe, CA. The location of the airport was incorrectly published, this action amends the legal description and corrects the longitude coordinate. The amended description replaces all references to South Lake Tahoe, CA airport.

EFFECTIVE DATE: September 15, 2005.

FOR FURTHER INFORMATION CONTACT: Larry Tonish, Airspace Specialist, Airspace Branch, AWP-520.1, Air Traffic Organization, Western Terminal Operations, Federal Aviation Administration, 15000 Aviation Boulevard, Lawndale, California 90261, telephone (310) 725-6539.

SUPPLEMENTARY INFORMATION: The FAA published a document in the Federal Register of July 7, 2005, Docket FAA 2005-21522; Airspace Docket No. 05-AWP-06 (70 FR 39175), establishing Class # Surface Area at South Lake Tahoe, CA. In that rule the longitude coordinate was incorrectly published. The correct coordinate should be 119°59′44″. This document corrects the longitude coordinate.

Correction to the Final Rule

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR, part 71 continues to read as follows:

Authority: 49 U.S.C. 106(g), 40103, 40113, 40120; E.O. 10854, 24 FR 9565, 3 CFR, 1959-1963 Comp., p. 389.

§ 71.1 [Corrected]

2. The incorporation by reference in 14 CFR 71.1 of the Federal Aviation Administration Order 7400.9M, Airspace Designations and Reporting Points, dated August 30, 2004, and effective September 16, 2004, is amended as follows:

Paragraph 6002 Class E Airspace Designated as Surface Areas.

* * * * *

AWP CA E2 South Lake Tahoe, CA [Established]

South Lake Tahoe Airport, CA

(Lat. 38°53′38″ N., long. 119°59′44″ W.)

Within a 4.3-mile radius of the South Lake Tahoe Airport.

* * * * *

Issued in Los Angeles, California, on August 1, 2005.
John Clancy,
Area Director, Western Terminal Operations.

[FR Doc. 05-16154 Filed 8-15-05; 8:45 am]

BILLING CODE 4910-13-M